DEPARTMENT OF TRANSPORTATION

Federal Aviation Administration

Notice of Release From Quitclaim Deed and Federal Grant Assurance Obligations for Phoenix-Mesa Gateway Airport, Mesa, AZ

AGENCY: Federal Aviation Administration, DOT.

ACTION: Notice of Request to Release Airport Land.

SUMMARY: The Federal Aviation Administration (FAA) proposes to rule and invites public comment on the application for a release of approximately 1,727 square feet of airport property at Phoenix-Mesa Gateway, Mesa, Arizona, from all conditions contained in the Quitclaim Deed and Grant Assurances since the parcel of land is not needed for airport purposes. The property will be sold for its fair market value and the proceeds deposited in the airport account. The reuse of the land for a roadway improvement project by the State of Arizona represents a compatible land use that will not interfere with the airport or its operation, thereby protecting the interests of civil aviation.

DATES: Comments must be received on or before September 19, 2011.

FOR FURTHER INFORMATION CONTACT: Comments on the request may be mailed or delivered to the FAA at the following address: Tony Garcia, Airports Compliance Program Manager, Federal Aviation Administration, Airports Division, Federal Register Comment, 15000 Aviation Blvd., Lawndale, CA 90261. In addition, one copy of the comment submitted to the FAA must be mailed or delivered to Mr. Walter Fix, Phoenix-Gateway Airport Authority, 5835 S. Sossaman Road, Mesa, Arizona 85212, Telephone: (480) 988-7709.

SUPPLEMENTARY INFORMATION: In accordance with the Wendell H. Ford Aviation Investment and Reform Act for the 21st Century (AIR 21), Public Law 10-181 (Apr. 5, 2000; 114 Stat. 61), this notice must be published in the Federal Register 30 days before the Secretary may waive any condition imposed on a federally obligated airport by surplus property conveyance deeds or grant agreements.

The following is a brief overview of the request:

Phoenix-Mesa Gateway Authority, Mesa, Arizona requested a release from the conditions contained in the Quitclaim Deed and Grant Assurance obligations for approximately 1,727 square feet of airport land. The property is located on the east side of the airport in the vicinity of Ellsworth Road. The land is presently unused and undeveloped. The land is needed for the construction of State Route 24, Gateway Freeway, which will encroach into airport property. The Phoenix-Mesa Gateway Airport Authority has agreed to the sale of the small parcel to the State of Arizona since the property is not needed for airport purposes. The conveyance will not impede future development of the airport, while SR-24 will improve access to the east side of the airport. The sale price will be based on its appraised market value and the sale proceeds will be deposited in the airport account and used for airport purposes. The use of the property as a public roadway represents a compatible use that will not interfere with airport operations. The airport will be properly compensated, thereby serving the interests of civil aviation.

Issued in Hawthorne, California, on August 10, 2011.
Brian Armstrong,
Manager, Safety and Standards, Airports Division, Western-Pacific Region.

[FR Doc. 2011-21085 Filed 8-17-11; 8:45 am]

BILLING CODE 4910-13-P